NUCLEAR REGULATORY COMMISSION

[Docket No. 030-18286]

Notice of Availability of Environmental Assessment and Finding of No Significant Impact for a License Amendment for Covance Laboratories, Madison, WI

I. Introduction

The U.S. Nuclear Regulatory Commission (NRC) is considering the issuance of an amendment to Covance Laboratories, Inc.'s (Covance) Byproduct Material License No. 48-11805-02, authorizing Covance to release its Deming Way facility located in Madison, Wisconsin, for unrestricted use. In December 1989, the NRC granted Covance a license for the Deming Way facility for in-vitro research and development utilizing tracer quantities of H-3 and C-14, and chemical analyses utilizing Ni-63 as a foil or plated source for gas chromatography. On November 22, 2002, Covance notified the NRC that it was ceasing operations at the Deming Way facility and requested release of this facility for unrestricted use. The NRC staff has prepared an Environmental Assessment (EA) in support of this licensing action in accordance with the requirements of 10 CFR part 51. The conclusion of the EA is a Finding of No Significant Impact (FONSI) for the proposed licensing action.

II. EA Summary

The proposed amendment would allow Covance to remove the Deming Way facility from its license and release the facility for unrestricted use. Covance provided survey results which demonstrate that the Deming Way facility is in compliance with 10 CFR 20.1402, “Radiological Criteria for Unrestricted Use.”

The staff has examined Covance's request and the information that the licensee has provided in support of its request, to ensure that the NRC's decision is protective of the public health and safety and the environment.

III. Finding of No Significant Impact

The staff has prepared the EA (summarized above) in support of Covance's proposed license amendment to release the Deming Way facility for unrestricted use. On the basis of the EA, the staff has concluded that the environmental impacts from the proposed action would not be significant. Accordingly, the staff has determined that a FONSI is appropriate, and has determined that the preparation of an environmental impact statement is not warranted.

IV. Further Information

In accordance with 10 CFR 2.790 of the NRC's “Rules of Practice,” Covance's request, the EA summarized above, and the documents related to this proposed action are available electronically for public inspection and copying from the Publicly Available Records (PARS) component of NRC's document system (ADAMS). ADAMS is accessible from the NRC Web site at http://www.nrc.gov/reading-rm.html. These documents include Covance's letter to NRC dated November 22, 2002, with enclosures (Accession No. ML030640568); Covance's letter to NRC dated January 31, 2003, with enclosures (Accession No. ML030790430); Covance's letter to NRC dated March 13, 2003 (Accession No. ML030790430); and the EA summarized above (Accession No. ML031330660). Any questions with respect to this action should be directed to Dr. Peter J. Lee, Division of Nuclear Materials Safety, U.S. Nuclear Regulatory Commission, Region III, 801 Warrenville Road, Lisle, Illinois 60532-4351; telephone (630) 829-9870 or by email at pjl2@nrc.gov.

Dated at Lisle, Illinois, this 12th day of May, 2003.
For the Nuclear Regulatory Commission.
Christopher G. Miller,
Chief, Decommissioning Branch, Division of Nuclear Materials Safety, RIII.

[FR Doc. 03-13144 Filed 5-23-03; 8:45 am]

BILLING CODE 7590-01-P